DEPARTMENT OF JUSTICE

[CPCLO Order No. 003-2017]

Privacy Act of 1974; System of Records

AGENCY: United States Department of Justice, Federal Bureau of Investigation.

ACTION: Rescindment of a System of Records Notice.

SUMMARY: Pursuant to the Privacy Act of 1974, 5 U.S.C. 552a, and Office of Management and Budget (OMB) Circular No. A-108, notice is hereby given that the Department of Justice (Department or DOJ) proposes to rescind the Federal Bureau of Investigation (FBI) System of Records Notice title, “FBI Insider Threat Program Records (ITPR),” JUSTICE/FBI-023, last published in full on September 19, 2016, at 81 FR 64198. Records that were part of JUSTICE/FBI-023 will now be covered by the DOJ-wide system of records titled, “DOJ Insider Threat Program Records,” JUSTICE/DOJ-018, published elsewhere in the Federal Register.

DATES: Notice of this rescindment is effective on July 10, 2017.

ADDRESSES: The public, OMB, and Congress are invited to submit any comments to the U.S. Department of Justice, ATTN: Privacy Analyst, Office of Privacy and Civil Liberties, National Place Building, 1331 Pennsylvania Avenue NW., Suite 1000, Washington, DC 20530-0001, by facsimile at 202-307-0693, or by email at privacy.compliance@usdoj.gov. To ensure proper handling, please reference the above CPCLO Order No. on your correspondence.

FOR FURTHER INFORMATION CONTACT: Richard R. Brown, Federal Bureau of Investigation, Assistant General Counsel, Privacy and Civil Liberties Unit, Office of the General Counsel, J. Edgar Hoover Building, 935 Pennsylvania Avenue NW., Washington, DC 20535-0001, telephone 202-324-3000.

SUPPLEMENTARY INFORMATION:

JUSTICE/FBI-023 established a system of records for the FBI's capabilities to detect, deter, and mitigate threats by FBI personnel including, but not limited to, employees, members of joint task forces under the purview of the FBI, contractors, detailees, assignees, and interns, with authorized access to FBI facilities, information systems, or Classified information. FBI personnel assigned to the FBI Insider Threat Prevention and Detection Program (ITPDP) have used the system of records to facilitate management of insider threat inquiries and activities associated with inquiries and referrals, identify potential threats to FBI resources and information assets, track referrals of potential insider threats to internal and external partners, and provide statistical reports and meet other insider threat reporting requirements. JUSTICE/FBI-023 is being discontinued and will be replaced by the DOJ Insider Threat Program Records, JUSTICE/DOJ-018, a DOJ-wide system of records with the same purpose. Records that were part of JUSTICE/FBI-023 will continue to be retained, but will become part of JUSTICE/DOJ-018. The JUSTICE/DOJ-018 will cover the same types of records as the discontinued JUSTICE/FBI-023, but on a Department-wide scale.

SYSTEM NAME AND NUMBER:

FBI Insider Threat Program Records, JUSTICE/FBI-023.

HISTORY:

See 81 FR 64198 (Sept. 19, 2016) for the notice of a new system of records establishing JUSTICE/FBI-023.

Dated: May 19, 2017.
Peter A. Winn,
Acting Chief Privacy and Civil Liberties Officer, United States Department of Justice.

[FR Doc. 2017-10783 Filed 5-30-17; 8:45 am]

BILLING CODE 4410-02-P